DEPARTMENT OF THE INTERIOR

National Park Service

[NPS-WASO-NAGPRA-23515; PPWOCRADN0-PCU00RP14.R50000]

Notice of Inventory Completion: U.S. Army Corps of Engineers, Huntington District; Correction

AGENCY: National Park Service, Interior.

ACTION: Notice; correction.

SUMMARY: The U.S. Army Corps of Engineers, Huntington District (Huntington District) has corrected an inventory of associated funerary objects, published in a Notice of Inventory Completion in the Federal Register on December 2, 2016. This notice corrects the number of associated funerary objects. Lineal descendants or representatives of any Indian Tribe or Native Hawaiian organization not identified in this notice that wish to request transfer of control of these associated funerary objects should submit a written request to the Huntington District. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Huntington District at the address in this notice by August 18, 2017.

ADDRESSES: Mr. Rodney Parker, District Archeologist, U.S. Army Corps of Engineers, Huntington District, 502, Eighth Street, Huntington, WV 25701, telephone (304) 399-5729, email rodney.d.parker@usace.army.mil.

SUPPLEMENTARY INFORMATION: Notice is here given in accordance with the Native American Graves Protection and Repatriation Act (NAGPRA), 25 U.S.C. 3003, of the correction of an inventory of associated funerary objects under the control of the Huntington District. The associated funerary objects were removed from Bluestone Lake in Summers County, WV; Deer Creek Lake in Pickaway County, OH; Fishtrap Lake in Pike County, KY; Meldahl Lock and Dam in Adams County, OH; Paint Creek Lake in Highland County, OH; and Paintsville Lake in Johnson County, KY.

This notice is published as part of the National Park Service's administrative responsibilities under NAGPRA, 25 U.S.C. 3003(d)(3). The determinations in this notice are the sole responsibility of the museum, institution, or Federal agency that has control of the Native associated funerary objects. The National Park Service is not responsible for the determinations in this notice.

This notice corrects the number of associated funerary objects published in a Notice of Inventory Completion in the Federal Register (81 FR 87067-87069, December 2, 2016). Transfer of control of the items in this correction notice has not occurred.

Correction

In the Federal Register (81 FR 87068, December 2, 2016), column 1, paragraph 1, sentence 4, under the heading “History and Description of the Remains,” is corrected by substituting the following sentence:

The 1,336 associated funerary objects are 788 shell beads, 23 shell pendants, 1 biface fragment, 4 flakes, 2 unmodified rocks, 1 engraved stone, 101 ceramic sherds, 205 fragments of unmodified fauna remains, 3 fragments modified faunal remains, 2 bone awl, 1 bone fish hook, 1 bone bead, 1 charcoal sample, 2 shell earrings, 157 fragments of unmodified shell, 1 shell spoon fragment, and 43 soil samples.

In the Federal Register (81 FR 87068, December 2, 2016), column 2, paragraph 2, sentence 4, under the heading “History and Description of the Remains,” is corrected by substituting the following sentence:

The 57 associated funerary objects are 21 fragments of unmodified animal bone, 28 fragments of unmodified mussel shell, and 8 fragments of charcoal.

In the Federal Register (81 FR 87068, December 2, 2016) column 2, paragraph 3, sentence 4, under the heading “History and Description of the Remains,” is corrected by substituting the following sentence:

The 1 associated funerary object is 1 projectile point fragment.

In the Federal Register (81 FR 87068, December 2, 2016) column 2, paragraph 5, sentence 4, under the heading “History and Description of the Remains,” is corrected by substituting the following sentence:

The 57 associated funerary objects are 4 chert tools, 3 projectile points, 8 flakes, 1 slate gorget, 35 fragments of unmodified faunal remains, 1 fragment of modified faunal remain, 1 fragment modified antler, 1 mica fragment, 2 fragments of unmodified shell, and 1 fragment of charcoal.

In the Federal Register (81 FR 87068, December 2, 2016) column 3, paragraph 1, sentence 9, under the heading “History and Description of the Remains,” is corrected by substituting the following sentence:

The 1,107 funerary objects are 7 core fragments, 2 groundstone tools, 87 flakes, 1 hematite fragment, 3 miscellaneous rock fragments, 347 ceramic sherds, 564 fragments of unmodified faunal remains, 86 fragments of unmodified shell, 1 modified wood fragment, and 9 shell beads.

In the Federal Register (81 FR 87068, December 2, 2016) columns 3, paragraph 2, sentence 5, under the heading “History and Description of the Remains,” is corrected by substituting the following sentence:

The 1,577 funerary objects are 1534 shell beads, 29 unmodified faunal remains, 7 modified faunal remains, 2 modified shell fragments, and 1 bone bead. 1 shell pendant, and 3 ochre pigment fragments.

In the Federal Register (81 FR 87069, December 2, 2016) columns 2, paragraph 1, sentence 1, under the heading “Determinations Made by the Huntington District,” is corrected by substituting the following sentence:

Pursuant to 25 U.S.C. 3001(3)(A), the 4,151 funerary objects described in this notice are reasonably believed to have been placed with or near individual human remains at the time of death or later as part of the death rite or ceremony.

Additional Requestors and Disposition

Lineal descendants or representatives of any Indian Tribe or Native Hawaiian organization not identified in this notice that wish to request transfer of control of these associated funerary items should submit a written request with information in support of the request to Mr. Rodney Parker, District Archeologist, U.S. Army Corps of Engineers, Huntington District, 502, Eighth Street, Huntington, WV 25701, telephone (304) 399-5729, email rodney.d.parker@usace.army.mil, by August 18, 2017. After that date, if no additional requestors have come forward, transfer of control of the associated funerary objects to the Absentee-Shawnee Tribe of Indians of Oklahoma, Eastern Shawnee Tribe of Oklahoma, and Shawnee Tribe may proceed.

The Huntington District is responsible for notifying the Absentee-Shawnee Tribe of Indians of Oklahoma, Eastern Shawnee Tribe of Oklahoma, and Shawnee Tribe that this notice has been published.

Dated: June 5, 2017.
Melanie O'Brien,
Manager, National NAGPRA Program.

[FR Doc. 2017-15109 Filed 7-18-17; 8:45 am]

BILLING CODE 4312-52-P